DEPARTMENT OF THE INTERIOR

National Park Service

[NPS-WASO-NRSS-SSB-18382; PPWONRADE3, PPMRSNR1Y.NM0000 (155)]

Proposed Information Collection; Comment Request; Programmatic Clearance for NPS-Sponsored Surveys

AGENCY: National Park Service (NPS), Interior.

ACTION: Notice; request for comments.

SUMMARY: We (National Park Service) will ask the Office of Management and Budget (OMB) to approve the Information Collection (IC) described below. The National Park Service (NPS) sponsors public surveys to provide park managers with information needed for park planning, management, operations and evaluation of performance related to protecting park resources and meeting the needs of the public. In consultation with the Office of Management and Budget (OMB) and the Department of the Interior (DOI), the NPS has developed a Programmatic Review and Clearance Process for NPS-sponsored public surveys. It significantly streamlines the information collection review process. To comply with the Paperwork Reduction Act of 1995, and as part of our continuing efforts to reduce paperwork and respondent burden, we invite the general public and other Federal agencies to take this opportunity to comment on this IC. This IC is scheduled to expire on October 31, 2015. We may not conduct or sponsor and a person is not required to respond to a collection unless it displays a currently valid OMB control number.

DATES: To ensure that your comments on this IC are considered, we must receive them on or before July 28, 2015.

ADDRESSES: Please send your comments to Phadrea Ponds, Information Collections Coordinator, National Park Service, 1201 Oakridge Drive, Fort Collins, CO 80525 (mail); or phadrea_ponds@nps.gov (email). Please reference “Information Collection 1024-0224—Programmatic Renewal” in the subject line.

FOR FURTHER INFORMATION CONTACT: Bret Meldrum, Chief, Social Science Program, National Park Service, 1201 Oakridge Drive, Fort Collins, CO 80525-5596 (mail); Bret_Meldrum@nps.gov (email); or 970-267-7295 (phone).

I. Abstract

The Programmatic Clearance for NPS-Sponsored Surveys applies to surveys designed to furnish usable information to NPS managers and planners concerning park visitors, visitor services, potential park visitors, and residents of communities near parks. This information is intended to provide NPS managers with data that can be used to improve the quality and utility of agency programs, services, and planning efforts. Questions asked under the programmatic review process must show a clear tie to NPS management and planning needs. The programmatic review may only be used for non-controversial surveys that are unlikely to attract or include topics of significant public interest in the programmatic review process.

To qualify for the NPS generic programmatic review process, all information collections must be directly tied to an area managed by the NPS or research that will benefit NPS management efforts. All collections must be reviewed by the NPS and approved by OMB before the survey can be initiated.

II. Data

OMB Control Number: 1024-0224.

Title: Programmatic Clearance for NPS-Sponsored Surveys.

Type of Request: Renewal of a currently approved collection.

Affected Public: General Public (i.e. Park Visitors, potential visitors to parks, and residents of communities near park) and local, state and tribal governments.

Respondent Obligation: Voluntary.

Estimated Number of Annual Respondents: 150,000.

Estimated Annual Burden Hours: 50,000 hours. We estimate the public reporting burden will average 20 minutes per response.

Estimated Annual Reporting and Recordkeeping “Non-Hour Cost”: None.

III. Request For Comments

We invite comments concerning this IC on:

• Whether the proposed collection of information is necessary for the agency to perform its duties, including whether the information is useful;

• The accuracy of the agency's estimate of the burden of the proposed collection of information;

• Ways to enhance the quality, usefulness, and clarity of the information to be collected; and

• Ways to minimize the burden on the respondents, including the use of automated collection techniques or other forms of information technology.

Comments that you submit in response to this notice are a matter of public record. We will include or summarize each comment in our request to OMB to approve this IC. Before including your address, phone number, email address, or other personal identifying information in your comment, you should be aware that your entire comment, including your personal identifying information, may be made publicly available at any time. While you can ask us in your comment to withhold your personal identifying information from public review, we cannot guarantee that we will be able to do so.

Dated: May 26, 2015.
Debra Melton,
Acting Information Collection Clearance Officer, National Park Service.

[FR Doc. 2015-13036 Filed 5-28-15; 8:45 am]

BILLING CODE 4310-EH-P